DEPARTMENT OF THE INTERIOR

National Park Service

[N6933; NPS-WASO-NAGPRA-NPS0042039; PPWOCRADN0-PCU00RP14.R50000]

Notice of Inventory Completion: Fowler Museum at UCLA, Los Angeles, CA

AGENCY: National Park Service, Interior.

ACTION: Notice.

SUMMARY: In accordance with the Native American Graves Protection and Repatriation Act (NAGPRA), the Fowler Museum at UCLA has completed an inventory of associated funerary objects and has determined that there is a cultural affiliation between the associated funerary objects and Indian Tribes or Native Hawaiian organizations in this notice.

DATES: Repatriation of the associated funerary objects in this notice may occur on or after March 25, 2026.

ADDRESSES: Send written requests for repatriation of the associated funerary objects in this notice to Allison Fischer-Olson, Fowler Museum at UCLA, Box 951549, Los Angeles, CA 90095-1549, email afischerolson@arts.ucla.edu.

SUPPLEMENTARY INFORMATION: This notice is published as part of the National Park Service's administrative responsibilities under NAGPRA. The determinations in this notice are the sole responsibility of the Fowler Museum at UCLA, and additional information on the determinations in this notice, including the results of consultation, can be found in its inventory or related records. The National Park Service is not responsible for the determinations in this notice.

Abstract of Information Available

The 46 lots of associated funerary objects are chipped stone artifacts, groundstone artifacts, a lithic flake, shell beads, and steatite beads. These cultural items were removed from cremation burials located at Cole's Levee on the shore of Buena Vista Lake in Kern County, CA, during a UCLA archaeological field class led by Ralph L. Beals around 1940 or 1941. They were received by the Fowler Museum at UCLA prior to October 1953 and comprise a portion of Accession 60. The collection also included human remains and associated funerary objects that were repatriated to the Santa Rosa Rancheria Tachi Yokut Tribe on March 22, 2006. During initial consultations in 2006, Cole's Levee was identified as within traditional Yokut territory. In consultations with the Tejon Indian Tribe in 2025, these items were identified as culturally affiliated with the Tribe and were removed from their ancestral territory. Santa Rosa Rancheria Tachi Yokut Tribe also reiterated that Cole's Levee is within Tachi Yokut territory during 2025 consultations. Treatment history of these items is unknown.

The one lot of associated funerary objects is a bag of faunal bone. During initial NAGPRA work in 1995, this faunal bone was found with human remains in a drawer with the label “McKittrick Survey Area” or “'burial' from McKittrick Survey.” The remains and faunal bone were incorporated into the Fowler Museum at UCLA's collections as Accession 925. The history of this collection is unclear, but they were likely removed during a 1977 archaeological survey of the McKittrick area of Kern County, CA, directed by C. William Clewlow (UCLA Archaeological Survey), then brought to UCLA by Michael Walsh. Following Tribal consultation, the human remains were transferred to the Kern County Coroner's Office in 2004, while the faunal bone remained at UCLA. UCLA staff contacted the Coroner's Office in 2025 regarding the remains, but the investigation into their current whereabouts is ongoing. During initial consultations prior to 2004, the McKittrick Survey area was identified as within traditional Yokut territory. In consultations with Tejon Indian Tribe in 2025, the faunal bone was identified as associated funerary objects that are culturally affiliated with the Tribe and were removed from their ancestral territory. Santa Rosa Rancheria Tachi Yokut Tribe also reiterated that the McKittrick area is within Tachi Yokut territory during 2025 consultations. Treatment history of these items is unknown.

Cultural Affiliation

Based on the information available and the results of consultation, cultural affiliation is clearly identified by the information available about the associated funerary objects described in this notice.

Determinations

The Fowler Museum at UCLA has determined that:

• The 47 lots of objects described in this notice are reasonably believed to have been placed intentionally with or near individual human remains at the time of death or later as part of the death rite or ceremony.

• There is a connection between the associated funerary objects described in this notice and the Santa Rosa Indian Community of the Santa Rosa Rancheria, California and the Tejon Indian Tribe.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after March 25, 2026. If competing requests for repatriation are received, the Fowler Museum at UCLA must determine the most appropriate requestor prior to repatriation. Requests for joint repatriation of the associated funerary objects are considered a single request and not competing requests. The Fowler Museum at UCLA is responsible for sending a copy of this notice to the Indian Tribes and Native Hawaiian organizations identified in this notice and any other consulting parties.

Authority: Native American Graves Protection and Repatriation Act, 25 U.S.C. 3003, and the implementing regulations, 43 CFR 10.10.

Dated: February 13, 2026.
Melanie O'Brien,
Manager, National NAGPRA Program.

[FR Doc. 2026-03557 Filed 2-20-26; 8:45 am]

BILLING CODE 4312-52-P